DEPARTMENT OF TRANSPORTATION

Federal Aviation Administration

Notice of Extension of Public Comment Period; Draft Supplemental Environmental Impact Statement; Cal Black Memorial Airport, Halls Crossing, Utah

AGENCY: Federal Aviation Administration, DOT.

ACTION: Notice.

SUMMARY: The Federal Aviation Administration has extended the public comment on the Draft Supplemental Environmental Impact Statement (DSEIS) for Cal Black Memorial Airport at Halls Crossing, Utah until April 30, 2001.

DATES AND ADDRESSES FOR COMMENTS: Comments concerning the DSEIS may be submitted by April 30, 2001, to Mr. Dennis Ossenkop, ANM-611, Federal Aviation Administration, Northwest Mountain Region, Airports Division, 1601 Lind Avenue, SW., Renton, WA 98055-4056.

If you desire additional information related to this project, please contact Mr. Dennis Ossenkop at the above address.

Issued in Renton, Washington on March 28, 2001.
Lowell H. Johnson,
Manager, Airports Division, Northwest Mountain Region.

[FR Doc. 01-8190 Filed 4-3-01; 8:45 am]

Billing Code 4910-13-M